DEPARTMENT OF ENERGY

Federal Energy Regulatory Commission

[Docket No. EL08-88-000]

California Independent System Operator Corporation; Notice of Institution of Proceeding and Refund Effective Date

October 21, 2008.

On October 16, 2008, the Commission issued an order that instituted a proceeding in Docket No. EL08-88-000, pursuant to section 206 of the Federal Power Act (FPA), 16 U.S.C. 824e (2005), to consider the justness and reasonableness of revisions to the Exceptional Dispatch provisions of the California Independent System Operator Corporation's Market Redesign Technology Upgrade (MRTU) Tariff. California Independent System Operator Corporation, 125 FERC ¶ 61,055 (2008).

The refund effective date in Docket No. EL08-88-000, established pursuant to section 206(b) of the FPA, shall be the earlier of MRTU implementation or five months from the date of publication of this notice in the Federal Register.

Kimberly D. Bose,
Secretary.

[FR Doc. E8-25620 Filed 10-27-08; 8:45 am]

BILLING CODE 6717-01-P